DEPARTMENT OF THE INTERIOR

Bureau of Land Management

[CO200-1430-ES, ET; COC-63837]

Notice of Realty Actions

AGENCY: Bureau of Land Management, Interior.

ACTION: Notice of realty actions.

SUMMARY: The Bureau of Land Management (BLM) has examined and found suitable for classification for lease and conveyance under the provisions of the Recreation and Public Purposes Act approximately 102.91 acres of public land located Boulder County. The realty would be developed and used for hiking and other recreational pursuits.

DATES: Comments as to the proposed classification and the lease and conveyance application must be received by BLM on or before July 22, 2005.

ADDRESSES: Comments should be sent to the Field Manager, Royal Gorge Field Office, Bureau of Land Management, 3170 East Main Street, Cañon City, Colorado 81212.

FOR FURTHER INFORMATION, CONTACT: Debbie Bellew, Land Law Examiner, BLM Royal Gorge Field Office, (719) 269-8514.

SUPPLEMENTARY INFORMATION: The Board of County Commissioners for Boulder, County, Colorado, has filed a petition-application under the provisions of the Recreation and Public Purposes Act, as amended (43 U.S.C. 869 et seq.), for classification, and for a lease and subsequent conveyance of the following described public land:

T. 1 N., R. 73 W., Sixth Principal Meridian, Colorado,

Section 12, lots 33, 43, 47, 48, 50, 59, and 65, containing approximately 102.91 acres.

The BLM has examined the above-described land in Boulder County and finds it is suitable for classification lease and subsequent conveyance to the County under the provisions of the Recreation and Public Purposes Act, as amended (43 U.S.C. 869 et seq.). The land would be used for hiking and other recreational purposes and would include a parking area, trailhead, interpretive signs, and trails. The above-described public land is not needed for any federal purpose and has been identified for disposal in the Northeast Colorado Resource Management Plan (September 1986). Leasing and subsequent disposal of the land to Boulder County for recreational purposes is consistent with current BLM land use planning and would complement the County's public outdoor recreation program. The lease would be issued for an initial term of five years to allow Boulder County sufficient time to develop the parking area, trailhead and interpretive signs. The BLM would subsequently convey the land to Boulder County after recreational development activities have been completed.

The lease and subsequent patent, if issued, would be subject to the following terms, conditions, and reservations:

1. Provisions of the Recreation and Public Purposes Act and all applicable regulations of the Secretary of the Interior.

2. A reservation to the United States of a right-of-way for ditches and canals constructed by the authority of the United States under the Act of August 30, 1890 (43 U.S.C. 945).

3. A reservation to the United States of all minerals, together with the right to prospect for, mine, and remove the minerals under applicable laws and regulations established by the Secretary of the Interior.

4. All valid existing rights.

5. Terms, covenants and conditions identified through the applicable environmental analysis or that the authorized officer determines appropriate to ensure public access and the proper use and management of the realty.

You may obtain additional detailed information concerning this Notice of Realty Action from the Royal Gorge Field Office of the BLM, 3170 East Main Street, Cañon City, Colorado 81212.

On June 7, 2005, the above-described public land is segregated from all forms of appropriation under the public land laws, including the mining and mineral leasing laws, except for leasing or conveyance under the Recreation and Public Purposes Act.

Classification Comments

You may submit comments regarding the proposed classification of the above-described public land as suitable for use by Boulder County as a recreation area, to include a parking area, trailhead, interpretive signs, and trail management to the Royal Gorge Field Manager, Bureau of Land Management, 3170 East Main Street, Cañon City, Colorado 81212, on or before July 22, 2005. Comments on the proposed classification are restricted to the following four criteria, which are outlined in the regulations at 43 CFR 2410.1:

1. Whether the land is physically suited for the purpose for which it is classified;

2. Whether the proposed use will maximize the future use or uses of the land and minimize disturbance to or dislocation of existing users;

3. Whether the proposed use is consistent with local planning and zoning requirements; and

4. Whether the proposed use is consistent with state and federal programs.

The BLM Colorado State Director will review any adverse comments received on the proposed classification. In the absence of any adverse comments, the classification will become effective on August 8, 2005.

Application Comments

You may also submit comments regarding the specific uses and facilities proposed in Boulder County's Recreation and Public Purposes Act application and plan of development, or any other factor not directly related to the suitability of the land for recreational use and development. Your comments on Boulder County's application should be sent to the Royal Gorge Field Manager, Bureau of Land Management, 3170 East Main Street, Cañon City, Colorado 81212, on or before July 22, 2005.

(Authority: 43 CFR 2741.5(h)(1) and (h)(3)).

Roy L. Masinton,
Royal Gorge Field Manager.

[FR Doc. 05-11203 Filed 6-6-05; 8:45 am]

BILLING CODE 4310-JB-P